DEPARTMENT OF COMMERCE

International Trade Administration

University of California, Los Angeles; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 02-036. Applicant: University of California, Los Angeles, Los Angeles, CA 90095. Instrument: Low Temperature Scanning Tunneling Microscope System, Model LT-STM 1. Manufacturer: VTS Createc GmbH, Germany. Intended Use: See notice at 67 FR 55197, August 28, 2002.

Comments: None received. Decision: Approved. No instrument of equivalent scientific value to the foreign instrument, for such purposes as it is intended to be used, is being manufactured in the United States. Reasons: The foreign instrument provides: (1) Operation at 10K to 300K using a liquid bath helium cryostat completely surrounded by a 4K radiation shield, (2) alternate operation with liquid nitrogen and (3) a scanning range of 1&mu; at 6K and 1.5μ at 77K. A university center for microstructural devices advised September 23, 2002 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 02-25626 Filed 10-7-02; 8:45 am]

BILLING CODE 3510-DS-P